OVERSEAS PRIVATE INVESTMENT CORPORATION

July 6, 2006 Public Hearing

OPIC's Sunshine Act notice of its Public Hearing in Conjunction with each Board meeting was published in the Federal Register (Volume 71, Number 109, Page 33006) June 7, 2006. No requests were received to provide testimony or submit written statements for the record; therefore, OPIC's public hearing in conjunction with OPIC's July 13, 2006 Board of Directors meeting scheduled for 2 p.m. on July 6, 2006 has been cancelled.

FOR FURTHER INFORMATION CONTACT: Information on the hearing cancellation may be obtained from Connie M. Downs at (202) 336-8438, via facsimile at (202) 218-0136, or via e-mail at cdown@opic.gov.

Dated: June 26, 2006.
Connie M. Downs,
OPIC Corporate Secretary.

[FR Doc. 06-5813 Filed 6-26-06; 12:33 pm]

BILLING CODE 3210-01-M